DEPARTMENT OF COMMERCE

National Oceanic and Atmospheric Administration

50 CFR Part 679

[Docket No. 991210329-0273-02; I.D. 102699B]

RIN 0648-AM36

Fisheries of the Exclusive Economic Zone Off Alaska; Bering Sea and Aleutian Islands Area; Amendment 58 to Revise the Chinook Salmon Savings Area; Correction

AGENCY: National Marine Fisheries Service (NMFS), National Oceanic and Atmospheric Administration (NOAA), Commerce.

ACTION: Final rule; correction.

SUMMARY: This document corrects regulatory text in the final rule that implements Amendment 58 to the Fishery Management Plan for the Groundfish Fishery of the Bering Sea and Aleutian Islands Area (FMP), which was published in the Federal Registeron October 12, 2000.

DATES: Effective November 13, 2000.

FOR FURTHER INFORMATION CONTACT: Patsy A. Bearden, 907-586-7008.

SUPPLEMENTARY INFORMATION:

Background

A final rule was published in the Federal Register on October 12, 2000 (65 FR 60587), to implement Amendment 58 to the FMP. In the regulatory text portion of the final rule, a reference to Figure 8a and Figure 8b were inadvertently omitted from the revised definition for “Chinook Salmon Savings Area of the BSAI.” Also, the paragraph designations were incorrectly labeled for § 679.21(e)7)(viii).

Correction

In the final rule to implement Amendment 58 to the FMP, which revises the Chinook Salmon Savings Area, published at 65 FR 60587, October 12, 2000, FR Doc. 00-26086, the following corrections are made:

§ 679.2 [Corrected]

1. On page 60588, column 2, § 679.2, the definition for “Chinook Salmon Savings Area of the BSAI” is corrected to read: “Chinook Salmon Savings Area of the BSAI (see § 679.21(e)(7)(viii) and Figure 8a and Figure 8b to this part).”

2. On page 60588, column three, § 679.21 (e)(7)(viii) is correctly revised to read as follows:

§ 679.21 Prohibited species bycatch management.

* * * * *

(e) * * *

(7) * * *

(viii) Chinook salmon. If, during the fishing year, the Regional Administrator determines that catch of chinook salmon, by vessels using trawl gear while directed fishing for pollock in the BSAI, will reach the annual limit as identified in paragraph (e)(1)(vii) of this section, NMFS, by notification in the Federal Register will close the Chinook Salmon Savings Area, as defined in Figure 8 to this part, to directed fishing for pollock with trawl gear consistent with the following dates:

(A) From the effective date of the closure until April 15, and from September 1 through December 31, if the Regional Administrator determines that the annual limit of chinook salmon will be attained before April 15.

(B) From September 1 through December 31, if the Regional Administrator determines that the annual limit of chinook salmon will be attained after April 15.

* * * * *

Dated: October 25, 2000.
William T. Hogarth,
Deputy Assistant Administrator for Fisheries, National Marine Fisheries Service.

[FR Doc. 00-27874 Filed 10-30-00; 8:45 am]

BILLING CODE 3510-22-S